DEPARTMENT OF ENERGY

Federal Energy Regulatory Commission

[Docket No. CP06-466-000; Docket No. CP06-467-000]

Columbia Gas Transmission Corporation: Somerset Gas Gathering of Pennsylvania, L.L.C.; Notice of Meeting

February 28, 2008.

On March 19, 2008, staff of the Office of Energy Projects (OEP) will hold a meeting on the pending applications in the above referenced dockets. The purpose of the meeting is to discuss various procedural matters and to clarify certain elements of the proposal. Any interested persons may attend.

The meeting will be held on Wednesday, March 19, 2008, at 2 p.m. (EST), in Room 62-22 at the Commission Headquarters in Washington, DC.

Commission meetings are accessible under section 508 of the Rehabilitation Act of 1973. For accessibility accommodations please send an e-mail to accessibility@ferc.gov or call toll free 1-(866) 208-3676 (voice). For TTY, call (202) 502-8659 or send a FAX to 202-208-2106 with the required accommodations.

Kimberly D. Bose,
Secretary.

[FR Doc. E8-4225 Filed 3-4-08; 8:45 am]

BILLING CODE 6717-01-P